DEPARTMENT OF JUSTICE

Office of Justice Programs

Bureau of Justice Statistics; Agency Information Collection Activities: Revision of a Currently Approved Collection

ACTION: Notice of review of a revision of a currently approved collection school crime survey (SCS).

The Department of Justice, Office of Justice Programs, Bureau of Justice Statistics, has submitted the following information collection request for review and clearance in accordance with the Paperwork Reduction Act of 1995. This proposed information collection is published to obtain comments from the public and affected agencies. Comments are encouraged and will be accepted until October 16, 2000.

If you have additional comments, suggestions, or need a copy of the proposed information collection instrument with instructions or additional information, please contact Michael Rand, (202) 616-3494, Bureau of Justice Statistics, Office of Justice Statistics, U.S. Department of Justice, 810 7th Street, NW., Washington, DC 20531.

Written comments and suggestions from the public and affected agencies concerning the proposed collection of information should address one or more of the following four points:

(1) Evaluate whether the proposed collection of information is necessary for proper performance of the functions of the agency/component, including whether the information will have practical utility;

(2) Evaluate the accuracy of the agency's/component's estimate of the burden of the collection of information including the validity of the methodology and assumptions used;

(3) Enhance the quality, utility, and clarity of the information to be collected; and

(4) Minimize the burden of the collection of information on those who are to respond, including through the use of appropriate automated electronic, mechanical, or other technological collection techniques or other forms of information technology, e.g., permitting electronic submission of responses.

Overview of This Information

(1) Type of information collection: Revision of a currently approved collection.

(2) The title of the form/collection: School Crime Survey (SCS).

(3) The agency form number, if any, and the applicable component of the department sponsoring the collection: SCS-1.

(4) Affected public who will be asked or required to respond, as well as a brief abstract: Primary: Individuals. The School Crime Survey will collect, analyze, publish, and disseminate statistics on the amount and type of crime committed against Middle or High School age persons residing within the United States.

Other: None.

(5) An estimate of the total number of respondents and the amount of time estimated for an average respondent to respond/reply: 12,200 respondents at 0.167 (10 minutes) hours per interview.

(6) An estimate of the total public burden (in hours) associated with the collection: 2,038 hours annual burden.

If additional information is required, contact: Mrs. Brenda E. Dyer, Deputy Clearance Officer, United States Department of Justice, Information Management and Security Staff, Justice Management Division, Suite 850, Washington Center, 1001 G Street NW., Washington, DC 20530.

Dated: August 9, 2000.
Brenda E. Dyer,
Department Deputy Clearance Officer, Department of Justice.

[FR Doc. 00-20616 Filed 8-14-00; 8:45 am]

BILLING CODE 4410-18-M